DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of April 2006.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance and Alternative Trade Adjustment Assistance

The following certifications have been issued; the date following the company name and location of each determination references the impact date for all workers of such determination.

The following certifications have been issued. The requirements of (a)(2)(A) (increased imports) of section 222 have been met, and section 246(a)(3)(A)(ii) of the Trade Act have been met.

TA-W-59,145; Roland Audio Development Corporation, La Mirada, CA: March 20, 2005

TA-W-59,157; General Electric, Consumer & Industrial Division, Murfreesboro, TN: March 31, 2005

TA-W-59,186; Paul Lavitt Mills, Inc., Hickory, NC: April 11, 2005

TA-W-59,194; Artist Colony LTD, Lexington, NC: April 9, 2005

TA-W-59,207; Bernhardt Furniture Company, Upholstery—Plant #9, Leased Workers From USA Staffing, Shelby, NC: April 12, 2005

TA-W-59,207A; Bernhardt Furniture Company, Upholstery—Plant #14, Leased Workers From USA Staffing, Cherryville, NC: April 12, 2005

TA-W-59,210; Sony Logistics of America-Pittsburgh, Subsidiary of Sony Electronics, Inc., Mt. Pleasant, PA: April 12, 2005

TA-W-59,233; 3D Materials Handling, LLC, Working at Fraser NH LLC, Gorham, NH: April 17, 2005

TA-W-58,693; Lake County Greenhouse Corp., Crown Point, IN: January 14, 2005

TA-W-58,698; Plastech Engineered Products, Inc., dba Andover Industries, Andover, OH: December 30, 2004

TA-W-58,804A; Republic Engineered Products, Inc., Lackawanna, NY: February 7, 2005

TA-W-58,804B; Republic Engineered Products, Inc., Lorain, OH: February 7, 2005

TA-W-59,068; Federal Mogul Corporation, Malden, MO: March 21, 2005

TA-W-59,086; Flynn, LLC, Greenville, KY: March 24, 2005

TA-W-59,128; Value Line Textiles, Inc., Lenoir City, TN: March 30, 2005

TA-W-59,131; Penncost Corporation, Marietta, PA: March 24, 2005

TA-W-59,177; Grapevine Staffing, LLC, Automotive Seating of America, Romech Division, Red Oak, IA: April 7, 2005

TA-W-58,756; Wagner Knitting, Inc., Lowell, NC: January 30, 2005

TA-W-58,813; Masonite International Corporation, Mobile, AL: February 8, 2005

TA-W-59,213; Hexcel Corp., Reinforcements Division, Washington, GA: April 4, 2005

The following certifications have been issued. The requirements of (a) (2) (B) (shift in production) of section 222 and section 246(a)(3)(A)(ii) of the Trade Act have been met.

TA-W-59,110; American Video Glass Co., A Subsidiary of Sony Electronics, Leased Workers of Staffmark, Mt. Pleasant, PA: May 14, 2005

TA-W-59,113; Sara Lee Branded Apparel, Eden, NC: March 22, 2005

TA-W-59,113A; Sara Lee Branded Apparel, Galax, VA: March 22, 2005

TA-W-59,160; 3M Touch Systems, Including Volt Services, Milwaukee, WI: April 4, 2005

TA-W-59,162; Esselte Business Corporation, Buena Park Division, Leased Workers Staffing Solutions, Buena Park, CA: March 29, 2005

TA-W-59,168; Joan Fabrics Corporation, Siler City, NC: April 5, 2005

TA-W-58,880; TG Manufacturing, Inc., Hammonton, NJ: February 21, 2005

TA-W-59,039A; Nortel, MG9K Software Design Dept. JF17, Research Triangle Park, NC: February 17, 2005

TA-W-59,049; Arlee Home Fashions, Including On-Site Leased Workers of Penmac, West Plains, MO: March 15, 2005

TA-W-59,061; Affinia Brake Parts, Inc., Rotors & Drums Departments, Leased Workers of Express Personnel, McHenry, IL: March 20, 2005

The following certification has been issued. The requirement of supplier to a trade certified firm and section 246(a)(3)(A)(ii) of the Trade Act have been met.

None

The following certification has been issued. The requirement of downstream producer to a trade certified firm and section 246(a)(3)(A)(ii) of the Trade Act have been met.

None

Negative Determinations for Worker Adjustment Assistance

In the following cases, the investigation revealed that the criteria for eligibility have not been met for the reasons specified.

The investigation revealed that criterion (a)(2)(A)(I.A) and (a)(2)(B)(II.A) (no employment decline) has not been met.

TA-W-58,804; Republic Engineered Products, Inc., Canton, OH.

TA-W-59,077; Greatbatch Sierra, Inc., Carson City, NV.

TA-W-59,251; Steed Sales Co., Inc., Bowdon, GA.

The investigation revealed that criteria (a)(2)(A)(I.B.)(Sales or production, or both, did not decline) and (a)(2)(B)(II.B) (shift in production to a foreign country) have not been met.

None

The investigation revealed that criteria (a)(2)(A)(I.C.) (increased imports) and (a)(2)(B)(II.B) (No shift in production to a foreign country) have not been met.

TA-W-59,092; Rapid Precision Machining, Victor, NY.

TA-W-59,158; Progressive Screens, Inc., Gaffney, SC.

The investigation revealed that criteria (a)(2)(A)(I.C.) (Increased imports and (a)(2)(B)(II.C) (has shifted production to a foreign country) have not been met.

None

The workers firm does not produce an article as required for certification under section 222 of the Trade Act of 1974.

TA-W-59,039; Nortel, XPM GNPS, Design and Support, Research Triangle Park, NC.

TA-W-59,089; Affiliated Computer Services, Inc., Wichita, KS.

TA-W-59,221; Moore Wallace AN RR Donnelley Co., National Customer Service Center, Libertyville, IL.

TA-W-59,221A; Moore Wallace AN RR Donnelley Co., National Customer Service Center, St. Charles, IL.

The investigation revealed that criteria (2) has not been met. The workers firm (or subdivision) is not a supplier or downstream producer to trade-affected companies.

None

Affirmative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-58,804; Republic Engineered Products, Inc., Canton, OH.

TA-W-59,077; Greatbatch Sierra, Inc., Carson City, NV.

TA-W-59,251; Steed Sales Co., Inc., Bowdon, GA.

TA-W-59,092; Rapid Precision Machining, Victor, NY.

TA-W-59,158; Progressive Screens, Inc., Gaffney, SC.

TA-W-59,039; Nortel, XPM GNPS, Design and Support, Research Triangle Park, NC.

TA-W-59,089; Affiliated Computer Services, Inc., Wichita, KS.

TA-W-59,221; Moore Wallace AN RR Donnelley Co., National Customer Service Center, Libertyville, IL.

TA-W-59,221A; Moore Wallace AN RR Donnelley Co., National Customer Service Center, St. Charles, IL.

The Department as determined that criterion (1) of section 246 has not been met. Workers at the firm are 50 years of age or older.

None

The Department as determined that criterion (2) of section 246 has not been met. Workers at the firm possess skills that are easily transferable.

TA-W-59,039A; Nortel, MG9K Software Design Dept. JF17, Research Triangle Park, NC.

The Department as determined that criterion (3) of section 246 has not been met. Competition conditions within the workers' industry are not adverse.

TA-W-58,880; TG Manufacturing, Inc., Hammonton, NJ.

I hereby certify that the aforementioned determinations were issued during the month of April 2006. Copies of these determinations are available for inspection in Room C-5311, U.S. Department of Labor, 200 Constitution Avenue, NW., Washington, DC 20210 during normal business hours or will be mailed to persons who write to the above address.

Dated: May 4, 2006.
Erica R. Cantor,
Director, Division of Trade Adjustment Assistance.

[FR Doc. 06-4418 Filed 5-10-06; 8:45 am]

BILLING CODE 4510-30-P